CONSUMER PRODUCT SAFETY COMMISSION

Sunshine Act Meeting Notice

TIME AND DATE: Wednesday, February 26, 2020; 10:00 a.m.

PLACE: Hearing Room 420, Bethesda Towers, 4330 East West Highway, Bethesda, MD 20814.

STATUS: Commission Meeting—Open to the Public

MATTERS TO BE CONSIDERED: Briefing Matter: Data Strategy and Artificial Intelligence.

CONTACT PERSON FOR MORE INFORMATION: Alberta E. Mills, Secretary, Division of the Secretariat, Office of the General Counsel, U.S. Consumer Product Safety Commission, 4330 East West Highway, Bethesda, MD 20814, (301) 504-7479.

Dated: February 20, 2020.
Alberta E. Mills,
Secretary.

[FR Doc. 2020-03776 Filed 2-20-20; 4:15 pm]

BILLING CODE 6355-01-P